DEPARTMENT OF AGRICULTURE

Animal and Plant Health Inspection Service

7 CFR Part 301

[Docket No. APHIS-2006-0149]

Karnal Bunt; Regulated Areas

AGENCY: Animal and Plant Health Inspection Service, USDA.

ACTION: Interim rule and request for comments.

SUMMARY: We are amending the Karnal bunt regulations to remove certain areas or fields in Maricopa and Pinal Counties, AZ, and Archer, Baylor, Knox, McCulloch, San Saba, Throckmorton, and Young Counties, TX, from the list of regulated areas based on our determination that those fields or areas meet our criteria for release from regulation. This action is necessary to relieve restrictions that are no longer necessary.

DATES: This interim rule became effective November 16, 2006. We will consider all comments that we receive on or before January 22, 2007.

ADDRESSES: You may submit comments by either of the following methods:

• Federal eRulemaking Portal: Go to http://www.regulations.gov, select “Animal and Plant Health Inspection Service” from the agency drop-down menu, then click “Submit.” In the Docket ID column, select APHIS-2006-0149 to submit or view public comments and to view supporting and related materials available electronically.

Information on using Regulations.gov, including instructions for accessing documents, submitting comments, and viewing the docket after the close of the comment period, is available through the site's “User Tips” link.

• Postal Mail/Commercial Delivery: Please send four copies of your comment (an original and three copies) to Docket No. APHIS-2006-0149, Regulatory Analysis and Development, PPD, APHIS, Station 3A-03.8, 4700 River Road Unit 118, Riverdale, MD 20737-1238. Please state that your comment refers to Docket No. APHIS-2006-0149.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Vedpal S. Malik, National Karnal Bunt Coordinator, Pest Detection and Management Programs, PPQ, APHIS, 4700 River Road Unit 134, Riverdale, MD 20737-1231; (301) 734-3769.

SUPPLEMENTARY INFORMATION:

Background

Karnal bunt is a fungal disease of wheat (Triticum aestivum), durum wheat (Triticum durum), and triticale (Triticum aestivum X Secale cereale), a hybrid of wheat and rye. Karnal bunt is caused by the fungus Tilletia indica (Mitra) Mundkur and is spread primarily through the planting of infected seed followed by very specific environmental conditions matched during specific stage of wheat growth. Some countries in the international wheat market regulate Karnal bunt as a fungal disease requiring quarantine; therefore, without measures taken by the Animal and Plant Health Inspection Service, United States Department of Agriculture, to prevent its spread, the presence of Karnal bunt in the United States could have significant consequences with regard to the export of wheat to international markets.

Upon detection of Karnal bunt in Arizona in March of 1996, Federal quarantine and emergency actions were imposed to prevent the interstate spread of the disease to other wheat producing areas in the United States. The quarantine continues in effect, although it has since been modified, both in terms of its physical boundaries and in terms of its restrictions on the production and movement of regulated articles from regulated areas. The regulations regarding Karnal bunt are set forth in 7 CFR 301.89-1 through 301.89-16 (referred to below as the regulations).

Under the regulations in § 301.89-3(f), a field known to have been infected with Karnal bunt, as well as any noninfected acreage surrounding the field, will be released from regulation if:

• The field has been permanently removed from crop production; or

• The field is tilled at least once per year for a total of 5 years (the years need not be consecutive). After tilling, the field may be planted with a crop or left fallow. If the field is planted with a host crop, the harvested grain must test negative through the absence of bunted kernels, for Karnal bunt.

The regulations in § 301.89-3(g) describe the boundaries of the regulated areas in Arizona, California, and Texas. In this interim rule, we are amending § 301.89-3(g) by removing certain areas or fields in Maricopa and Pinal Counties, AZ, and in Archer, Baylor, Knox, McCulloch, San Saba, Throckmorton and Young Counties, TX, from the list of regulated areas, based on our determination that these fields or areas are eligible for release from regulation under the criteria in § 301.89-3(f). This action relieves restrictions on fields within those areas that are no longer necessary. With this action, there are no longer any regulated areas in Archer, McCulloch, and San Saba Counties, TX, and the size of the regulated areas in each of the four remaining regulated Texas counties and in two of the three regulated Arizona counties is reduced.

Immediate Action

Immediate action is warranted to relieve restrictions that are no longer necessary. Under these circumstances, the Administrator has determined that prior notice and opportunity for public comment are contrary to the public interest and that there is good cause under 5 U.S.C. 553 for making this action effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

This rule releases certain areas and fields from regulation and thereby relieves restrictions on regulated articles moved interstate from those areas and fields. The areas and fields have met the criteria for release from regulation described in 7 CFR 301.89-3(f). Landowners and businesses located within the areas will be able to resume normal operations, including unrestricted movement of articles listed in § 301.89-2.

As detailed in table 1, this interim rule removes approximately 8,796 acres from regulation in Arizona and 497,593 acres from regulation in Texas.

Table 1.—Location, Number of Fields, and Acreage of Areas Released From Regulation by This Rule
State and county | Total acreage released
Maricopa County, AZ | 3,831
Pinal County, AZ | 4,965
Arizona total | 8,796
Archer County, TX | 41,984
Baylor County, TX | 89,137
Knox County, TX | 117
McCulloch County, TX | 30,145
San Saba County, TX | 215,530
Throckmorton County, TX | 38,155
Young County, TX | 82,525
Texas total | 497,593

The entities most likely to be affected by this rule are wheat producers whose fields are being removed from the list of regulated areas. Producers affected by this interim rule are likely to be small in size, based on the Small Business Administration (SBA) standard for wheat farmers of total annual sales of not more than $750,000. Wheat farming is classified as North American Industry Classification System code 111140 (under crop production). According to USDA's Economic Research Service (ERS), in 2002, 98.5 percent of all farms (228,926 total), including wheat farms, in Texas had sales less than $500,000, and 91.2 percent of all farms (7,294 total), including wheat farms, in Arizona had sales less than $500,000.¹ Therefore, it is safe to assume that most wheat farms in both Arizona and Texas are considered small entities based on SBA standards.

¹ ERS. Farm Economy. Farm Income. State Fact sheets.

Deregulation will benefit producers located within those areas because they will be allowed to move regulated articles without restrictions. Regulated articles can only be moved from regulated areas to non-regulated areas under conditions listed in § 301.89-5, including negative testing of harvested grain for bunted kernels or through cleaning and disinfection procedures. Producers in the released areas will no longer have to meet these conditions.

It is also possible that producers in the released areas will receive higher prices or have a broader sales base for their wheat because of buyers' perceptions. Prices for wheat from regulated areas may be lower because of the belief that wheat produced in a regulated area is inferior or of lower quality than wheat from an unregulated area, even though it has tested negative for Karnal bunt. The elimination of restrictions may increase marketing opportunities for producers among buyers who perceive the wheat is now of higher quality.

However, even with unrestricted movement of grain and seed and a possible higher received price for wheat, the benefit for each producer is still likely to be small. The testing of grain for Karnal bunt is already performed free of charge for producers in all regulated areas. Therefore, removing the testing requirements through deregulation does not amount to a cost savings for the producer, just the removal of an inconvenience.

Additionally, deregulating the areas will not affect the total market for wheat. Table 2 presents the percentage of total U.S. wheat production for the past 10 years contributed by each county and State containing areas released from regulation by this rule. Given that such small percentages of wheat are coming from the listed counties, benefits associated with removing the restrictions on the movement of regulated articles are expected to be minimal. The listed counties are small contributors in the total U.S. wheat market; for example, in 2004, Pinal County, AZ, was the largest contributor of the listed counties, yet it contributed only one-tenth of 1 percent to the total wheat market. Deregulation of these areas will not influence the price of wheat.

Table 2.—Wheat Production in Deregulated Counties, as Percentage Shares of U.S. Production, 1995-2005
Year | U.S. total bushels Produced | Maricopa (percent) | Pinal (percent) | Archer (percent) | Baylor (percent) | Knox (percent) | McCulloch (percent) | San Saba (percent) | Throckmorton (percent) | Young (percent)
1995 | 2,182,708,000 | 0.12 | 0.15 | 0.04 | 0.08 | 0.06 | 0.04 | 0.02 | 1.48 | 0.07
1996 | 2,277,388,000 | 0.20 | 0.21 | 0.04 | 0.09 | 0.10 | 0.02 | 0.00 | 2.05 | 0.06
1997 | 2,481,466,000 | 1.05 | 0.09 | 0.05 | 0.10 | 0.07 | 0.04 | 0.02 | 0.50 | 0.06
1998 | 2,547,321,000 | 0.18 | 0.17 | 0.07 | 0.12 | 0.13 | 0.03 | 0.03 | 0.69 | 0.11
1999 | 2,295,560,000 | 0.06 | 0.07 | 0.03 | 0.07 | 0.10 | 0.03 | 0.02 | 1.52 | 0.04
2000 | 2,228,160,000 | 0.07 | 0.08 | 0.04 | 0.06 | 0.08 | 0.00 | 0.01 | 0.23 | 0.01
2001 | 1,947,453,000 | 0.10 | 0.09 | 0.02 | 0.09 | 0.15 | 0.06 | 0.03 | 1.04 | 0.04
2002 | 1,605,878,000 | N/A | N/A | 0.00 | 0.06 | 0.15 | 0.05 | 0.01 | 1.06 | 0.02
2003 | 2,344,760,000 | 0.07 | 0.14 | 0.02 | 0.05 | 0.12 | 0.02 | 0.01 | 0.80 | 0.02
2004 | 2,158,245,000 | 0.07 | 0.10 | 0.04 | 0.06 | 0.18 | 0.07 | 0.02 | 1.14 | 0.05
2005 | 2,104,690,000 | N/A | N/A | 0.03 | 0.04 | 0.13 | 0.05 | 0.01 | 1.10 | 0.02
Source: USDA, NASS. Data not available for Maricopa and Pinal Counties, AZ, for 2002 and 2005.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This interim rule contains no information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 7701-7772 and 7781-7786; 7 CFR 2.22, 2.80, and 371.3.

Section 301.75-15 issued under Sec. 204, Title II, Public Law 106-113, 113 Stat. 1501A-293; sections 301.75-15 and 301.75-16 issued under Sec. 203, Title II, Public Law 106-224, 114 Stat. 400 (7 U.S.C. 1421 note).

2. In § 301.89-3, paragraph (g) is amended as follows:

a. Under the heading “Arizona,” in the entry for Maricopa County, by revising paragraphs (1) and (2) to read as set forth below.

b. Under the heading “Arizona,” in the entry for Pinal County, by revising paragraphs (1) and (3) to read as set forth below.

c. Under the heading “Texas,” by removing the entries for Archer County, McCulloch County, and San Saba County, and by revising the entries for Baylor County, Knox County, Throckmorton County, and Young County to read as set forth below.

§ 301.89-3 Regulated areas.

* * * * *

(g) * * *

ARIZONA

* * * * *

Maricopa County. (1) Beginning at the southeast corner of sec. 8, T. 1 S., R. 2 E.; then west to the southwest corner of sec. 8, T. 1 S., R. 2 E.; then south to the southeast corner of sec. 18, T. 1 S., R. 2 E.; then west to the southwest corner of sec. 14, T. 1 S., R. 1 E.; then north to the northwest corner of sec. 14, T. 1 S., R. 1 E.; then west to the southwest corner of sec. 9, T. 1 S., R. 1 E.; then north to the northwest corner of sec. 9, T. 1 S., R. 1 E.; then west to the southwest corner of sec. 5, T. 1 S., R. 1 E.; then north to the northwest corner of sec. 5, T. 1 S., R. 1 E.; then west to the northeast corner of sec. 6, T. 1 S., R. 1 W.; then south to the southeast corner of sec. 7, T. 1 S., R. 1 W.; then west to the northeast corner of sec. 14, T. 1 S., R. 2 W.; then south to the southeast corner of sec. 14, T. 1 S., R. 2 W.; then west to the northeast corner of sec. 20, T. 1 S., R. 2 W.; then south to the southeast corner of sec. 20, T. 1 S., R. 2 W.; then west to the northeast corner of sec. 29, T. 1 S., R. 3 W.; then south to the southeast corner of sec. 29, T. 1 S., R. 3 W.; then west to the southwest corner of sec. 26, T. 1 S., R. 5 W.; then north to the northwest corner of sec. 14, T. 1 N., R. 5 W.; then east to the southwest corner of sec. 7, T. 1 N., R. 2 W.; then north to the northwest corner of sec. 7, T. 1 N., R. 2 W.; then east to the northeast corner of sec. 7, T. 1 N., R. 2 W.; then north to the northwest corner of sec. 5, T. 1 N., R. 2 W.; then east to the northeast corner of sec. 5, T. 1 N., R. 2 W.; then north to the northwest corner of sec. 33, T. 2 N., R. 2 W.; then east to the northeast corner of sec. 33, T. 2 N., R. 2 W.; then north to the northwest corner of sec. 3, T. 3 N., R. 2 W.; then east to the northeast corner of sec. 1, T. 3 N., R. 1 W.; then south to the northwest corner of sec. 19, T. 3 N., R. 1 E.; then east to the northeast corner of sec. 20, T. 3 N., R. 1 E.; then south to the northeast corner of sec. 29, T. 3 N., R. 1 E.; then east to the northeast corner of sec. 27, T. 3 N., R. 1 E.; then south to the southeast corner of sec. 27, T. 3 N., R. 1 E.; then east to the northeast corner of sec. 35, T. 3 N., R. 1 E.; then south to the southeast corner of sec. 35, T. 3 N., R. 1 E.; then east to the northeast corner of sec. 1, T. 2 N., R. 1 E.; then south to the northeast corner of sec. 1, T. 1 N., R. 1 E.; then east to the northeast corner of sec. 4, T. 1 N., R. 2 E.; then south to the northwest corner of sec. 15, T. 1 N., R. 2 E.; then east to the northeast corner of sec. 15, T. 1 N., R. 2 E.; then south to the southeast corner of sec. 27, T. 1 N., R. 2 E.; then west to the southwest corner of sec. 27, T. 1 N., R. 2 E.; then south to the southeast corner of sec. 33, T. 1 N., R. 2 E.; then west to the southwest corner of sec. 33, T. 1 N., R. 2 E.; then south to the point of beginning.

(2) Beginning at the intersection of the Maricopa/Pinal County line and the southeast corner of sec. 36, T. 2 S., R. 7 E.; then west along the Maricopa/Pinal County line to the southwest corner of sec. 33, T. 2 S.; R. 5 E.; then north to the northwest corner of sec. 33; then west to the southwest corner of sec. 30, T. 2 S., R. 5 E.; then north to the southeast corner of sec. 25, T. 2 S., R. 4 E.; then west to the southwest corner of sec. 25, T. 2 S., R. 4 E.; then north to the southwest corner of sec. 13, T. 2 S., R. 4 E.; then west to the southwest corner of sec. 15, T. 2 S., R. 4 E.; then north to the northwest corner of sec. 3, T. 2 S., R. 4 E.; then east to the southwest corner of sec. 35, T. 1 S., R. 4 E.; then north to the northwest corner of sec. 35, T. 1 S., R. 4 E.; then east to the northeast corner of sec. 33, T. 1 S., R. 5 E.; then north to the northwest corner of sec. 27, T. 1 S., R. 5. E.; then east to the northeast corner of sec. 27, T. 1 S., R. 5 E.; then north to the northwest corner of sec. 23, T. 1 S., R. 5 E.; then east to the northeast corner of sec. 19, T. 1 S., R. 6 E.; then north to the northwest corner of sec. 8, T. 1 S., R. 6 E.; then east to the southwest corner of sec. 3, T. 1 S., R. 6 E.; then north to the northwest corner of sec. 3, T. 1 S., R. 6 E.; then east to the northeast corner of sec. 2, T. 1 S., R. 6. E.; then south to the southeast corner of sec. 2, T. 1 S., R. 6 E.; then east to the northeast corner of sec. 7, T. 1 S., R. 7 E.; then south to the northwest corner of sec. 5, T. 2 S., R. 7. E.; then east to the northeast corner of sec. 3, T. 2 S., R. 7 E.; then north to the northwest corner of sec. 35, T. 1 S., R. 7 E.; then east to the northeast corner of sec. 36, T. 1 S., R. 7 E. and the Maricopa/Pinal County line; then south along the Maricopa/Pinal County line to the point of beginning.

* * * * *

Pinal County. (1) Beginning at the intersection of the Maricopa/Pinal County line and the northwest corner of sec. 31, T. 1 S., R. 8 E.; then east to the northeast corner of sec. 32, T. 1 S., R. 8 E.; then south to the northwest corner of sec. 4, T. 2 S., R. 8 E.; then east to the northeast corner of sec. 4, T. 2 S., R. 8 E.; then south to the southeast corner of sec. 4, T. 3 S., R. 8 E.; then west to the northeast corner of sec. 8, T. 3 S., R. 8 E.; then south to the southeast corner of sec. 8, T. 3 S., R. 8 E.; then west to the southwest corner of sec. 12, T 3 S., R. 7 E.; then north to the southeast corner of sec. 2, T. 3 S., R. 7 E.; then west to the northeast corner of sec. 9, T. 3 S., R. 6 E.; then south to the southeast corner of sec. 28, T. 3 S., R. 6 E.; then west to the southwest corner of sec. 28, T. 3 S., R. 6 E.; then south to the southeast corner of sec. 32, T. 3 S., R. 6 E.; then west to the southwest corner of sec. 35, T. 3 S., R. 5 E.; then north to the northwest corner of sec. 35, T. 3 S., R. 5 E.; then west to the southwest corner of sec. 27, T. 3 S., R. 5 E.; then north to the northwest corner of sec. 10, T. 3 S., R. 5 E.; then west to the southwest corner of sec. 4, T. 3 S., R. 5 E.; then north to the northwest corner of sec. 4, T. 3 S., R. 5 E. and the intersection of the Maricopa/Pinal County line; then east along the Maricopa/Pinal County line to the northwest corner of sec. 6, T. 3 S., R. 8 E.; then north along the Maricopa/Pinal County line to the point of beginning.

* * * * *

(3) The following individual fields in Pinal County are regulated areas: 309021804 and 309050104.

* * * * *

TEXAS

Baylor County. (1) Beginning at the Knox/Baylor County line and the line of latitude 33.6752° N.; then east along the line of latitude 33.6752° N. to the line of longitude −99.3833° W.; then south along the line of longitude −99.3833° W. to the line of latitude 33.5802° N.; then west along the line of latitude 33.5802° N. to the line of longitude −99.3846° W.; then south along the line of longitude −99.3846° W. to the line of latitude 33.5305° N.; then west along the line of latitude 33.5305° N. to the Knox/Baylor County line; then north along the Knox/Baylor County line to the point of beginning.

(2) Beginning at the Baylor/Throckmorton County line and the line of longitude −99.1270° W.; then north along the line of longitude −99.1270° W. to the line of latitude 33.4447° N.; then east along the line of latitude 33.4447° N. to the line of longitude −99.0191° W.; then south along the line of longitude −99.0191° W. to the Baylor/Throckmorton County line; then west along the Baylor/Throckmorton County line to the point of beginning.

Knox County. Beginning at the Knox/Baylor County line and the line of latitude 33.5305° N.; then west along the line of latitude 33.5305° N. to the line of longitude −99.4960° W.; then north along the line of longitude −99.4960° W. to the line of latitude 33.5802° N.; then west along the line of latitude 33.5802° N. to the line of longitude −99.4971° W.; then north along the line of longitude −99.4971° W. to the line of latitude 33.6752° N.; then east along the line of latitude 33.6752° N. to the Knox/Baylor County line; then south along the Knox/Baylor County line to the point of beginning.

Throckmorton County. (1) Beginning at the Baylor/Throckmorton County line and the line of longitude −99.1270° W.; then east along the Baylor/Throckmorton County line to the line of longitude −99.0191° W.; then south along the line of longitude −99.0191° W. to the line of latitude 33.3535° N.; then west along the line of latitude 33.3535° N to the line of longitude −99.1270° W.; then north along the line of longitude −99.1270° W. to the point of beginning.

(2) Beginning at the Throckmorton/Young County line and the line of latitude 33.3003° N.; then south along the Throckmorton/Young County line to the line of latitude 33.1809° N.; then west along the line of latitude 33.1809° N. to the line of longitude −98.9890° W; then north along the line of longitude −98.9890° W. to the line of latitude 33.2055° N.; then west along the line of latitude 33.2055° N. to the line of longitude −99.0043° W.; then north along the line of longitude −99.0043° W. to the line of latitude 33.3003° N.; then east to the point of beginning.

Young County. Beginning at the Throckmorton/Young County line and the line of latitude 33.3003° N.; then east along the line of latitude 33.3003° N. to the line of longitude −98.8886° W.; then south along the line of longitude −98.8886° W. to the line of latitude 33.2880° N.; then east along the line of latitude 33.2880° N. to the line of longitude −98.8356° W.; then south along the line of longitude −98.8356° W. to the line of latitude 33.1946° N.; then west along the line of latitude 33.1946° N. to the line of longitude −98.8762° W.; then south along the line of longitude −98.8762° W. to the line of latitude 33.1809° N.; then west along the line of latitude 33.1809° N. to the Throckmorton/Young County line; then north along the Throckmorton/Young County line to the point of beginning.

Done in Washington, DC, this 16th day of November 2006.
Kevin Shea,
Acting Administrator, Animal and Plant Health Inspection Service.

[FR Doc. E6-19769 Filed 11-21-06; 8:45 am]

BILLING CODE 3410-34-P